DEPARTMENT OF ENERGY

Federal Energy Regulatory Commission

[Project No. 2539-033]

Erie Boulevard Hydropower, L.P.; Notice Rejecting Rehearing Request

April 12, 2007.

On February 15, 2007, the Commission issued an order on offer of settlement and issuing new license. Erie Boulevard Hydropower, L.P., 118 FERC ¶ 61,101. On March 19, 2007, Adirondack Hydro Development Corporation and Green Island Power Authority, jointly, filed a request for rehearing in this proceeding.

Under section 313(a) of the Federal Power Act, 16 U.S.C. 825l(a)(2000), a request for rehearing may be filed only by a party to the proceeding. Green Island is not a party to this proceeding.¹ Therefore, the request for rehearing is rejected as to Green Island Power Authority.

¹ On June 28, 2006, the Secretary denied Green Island's late motion to intervene in the School Street relicensing proceeding.

This notice constitutes final agency action. Requests for rehearing by the Commission of this rejection notice must be filed within 30 days of the date of issuance of this notice, pursuant to 18 CFR 385.713 (2006).

Kimberly D. Bose,
Secretary.

[FR Doc. E7-7313 Filed 4-17-07; 8:45 am]

BILLING CODE 6717-01-P